COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and a service to the Procurement List that will be furnished by nonprofit agencies employing persons who are blind or have other severe disabilities.

DATES: Effective Date: 4/28/2014.

ADDRESSES: Committee for Purchase From People Who Are Blind or Severely Disabled, 1401 S. Clark Street, Suite 10800, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 11/22/2013 (78 FR 70022-70023); 1/6/2014 (79 FR 645); 1/17/2014 (79 FR 3181-3182) and 1/24/2014 (79 FR 4154-4155), the Committee for Purchase From People Who Are Blind or Severely Disabled published notices of proposed additions to the Procurement List.

After consideration of the material presented to it concerning capability of qualified nonprofit agencies to provide the products and service and impact of the additions on the current or most recent contractors, the Committee has determined that the products and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 8501-8506) in connection with the products and service proposed for addition to the Procurement List.

End of Certification

Accordingly, the following products and service are added to the Procurement List:

Products

NSN: 5180-01-441-6698—Tool Kit, Highway Safety, Compact.

NPA: Development Workshop, Inc., Idaho Falls, ID.

Contracting Activity: General Services Administration, Kansas City, MO.

Coverage: B-List for the Broad Government Requirement as aggregated by the General Services Administration.

NSN: 7045-01-482-7540—CD-R Silver w/Jewel Case, 10pk.

NPA: North Central Sight Services, Inc., Williamsport, PA.

Contracting Activity: Defense Logistics Agency Troop Support, Philadelphia, PA.

COVERAGE: B-List for the Broad Government Requirement as aggregated by Defense Logistics Agency Troop Support, Philadelphia, PA.

NSN: 7350-00-290-0593—Plate, Paper, White, Round, 6½″ Diameter.

NSN: 7350-00-290-0594—Plate, Paper, White, Round, 9″ Diameter.

NPA: The Lighthouse for the Blind in New Orleans, Inc., New Orleans, LA.

Contracting Activity: General Services Administration, Fort Worth, TX.

Coverage: A-List for the Total Government Requirement as aggregated by the General Services Administration.

NSN: 7510-00-579-2751—Binder, Round Ring, Rigid Cover, Black, 2″ Capacity, 8½″ x 11″.

NPA: South Texas Lighthouse for the Blind, Corpus Christi, TX.

Contracting Activity: General Services Administration, New York, NY.

Coverage: B-List for the Broad Government Requirement as aggregated by the General Services Administration.

Service

Service Type/Location: Base Supply Center, San Diego Naval Base, 3985 Cummings Road, San Diego, CA.

NPA: The Lighthouse for the Blind, Inc. (Seattle Lighthouse), Seattle, WA.

Contracting Activity: DEPT OF THE NAVY, NAVSUP FLT LOG CTR SAN DIEGO, CA.

Barry S. Lineback,
Director, Business Operations.

[FR Doc. 2014-06921 Filed 3-27-14; 8:45 am]

BILLING CODE 6353-01-P